DEPARTMENT OF TRANSPORTATION

Federal Aviation Administration

14 CFR Part 129

[Docket No. FAA-2009-0140; Amdt. No. 129-49]

RIN 2120-AJ45

Operations Specifications; OMB Approval of Information Collection

AGENCY: Federal Aviation Administration, DOT.

ACTION: Final rule; OMB approval of information collection.

SUMMARY: This document notifies the public of the Office of Management and Budget's (OMB's) approval of the information collection requirement contained in the FAA's final rule, “Operations Specifications,” which was published on February 10, 2011.

DATES: The rule published on February 10, 2011, became effective on April 11, 2011. However, because it contained new information collection requirements, compliance with the information collection provisions contained in § 129.7 was not required until they were approved. This document announces that OMB approval was received on April 5. 2012.

FOR FURTHER INFORMATION CONTACT: For technical questions contact Darcy D. Reed, International Programs and Policy Division, AFS-50, Flight Standards Service, Federal Aviation Administration, 800 Independence Avenue SW., Washington DC 20591; email: Darcy.D.Reed@faa.gov; Telephone: 202-385-8078. For legal questions contact Lorna John, Office of the Chief Counsel, Regulations Division, AGC-200, Federal Aviation Administration, 800 Independence Avenue SW., Washington, DC 20591; email: Lorna.John@faa.gov; Telephone: 202-267-3921.

SUPPLEMENTARY INFORMATION: On February 10, 2011, the final rule, “Operations Specifications” was published in the Federal Register (76 FR 7482). In that rule, the FAA clarified and standardized the rules for applications by foreign air carriers and foreign persons for part 129 operations specifications and established new standards for amendment, suspension, and termination of those operations specifications.

In the DATES section of the final rule, the FAA noted that affected parties were not required to comply with the new information collection requirements in § 129.7 until OMB approved the FAA's request to collect the information. Section 129.7 includes new provisions governing the application, issuance, and denial of operations specifications. That information collection requirement had not been approved by OMB at the time of publication.

In accordance with the Paperwork Reduction Act, the FAA submitted a copy of the new information collection requirements to OMB for its review. OMB approved the collection on April 5, 2012, and assigned the information collection OMB Control Number 2120-0749, which expires on April 30, 2013.

This document is being published to inform affected parties of the approval, and to announce that as of April 5, 2012, affected parties are required to comply with the new information collection requirements in § 129.7.

Issued in Washington, DC, on July 2, 2012.
Brenda D. Courtney,
Acting Director, Office of Rulemaking.

[FR Doc. 2012-16840 Filed 7-9-12; 8:45 am]

BILLING CODE 4910-13-P